DEPARTMENT OF HEALTH AND HUMAN SERVICES

Office of Inspector General

Program Exclusions: August 2002

AGENCY: Office of Inspector General, HHS.

ACTION: Notice of program exclusions.

During the month of August 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.[NOTICES][NOTICE][PREAMB][AGENCY TYPE='S']DEPARTMENT OF [SUBAGY] [DEPDOC][Docket No. [RIN]RIN [SUBJECT] [AGY][HED]AGENCY:[P] [ACT][HED]ACTION:[P] [/ACT][SUM][HED]SUMMARY:[P] [DATES][HED]DATES:[P] [ADD][HED]ADDRESSES:[P] [FURINF][HED]FOR FURTHER INFORMATION CONTACT:[P] [SUPLINF][HED]SUPPLEMENTARY INFORMATION:[P] [FNP]

Subject, City, State | Effective date
PROGRAM-RELATED CONVICTIONS
A & H LEE PHARMACY, INC | 09/19/2002
BROOKLYN, NY
AKOPYAN, LEVON | 09/19/2002
ELOY, AZ
ALEXANDER, STEPHANIE | 09/19/2002
FLORENCE, SC
AMIN, ALBERT | 09/19/2002
LONG BEACH, CA
AMIN, ABDULLAH | 09/19/2002
WOODSIDE, NY
ASKARI, NEVRON S | 09/19/2002
MONROE, GA
AUSTIN, CYNTHIA DENISE | 09/19/2002
OPA LOCKA, FL
AZIZ-DURRANI, MUMLIKAT | 09/19/2002
JERSEY CITY, NJ
BRANDT, MARK W | 09/19/2002
COLUMBUS, OH
BRENT, JANETTE L | 09/19/2002
NEWARK, OH
BRIDGES, PATRICE MARIE | 09/19/2002
DETROIT, MI
BROWN, SHELLENA | 09/19/2002
MIAMI, FL
BURBY, ROBYNNE J | 09/19/2002
HOULTON, ME
CABRERA, ERIC | 09/19/2002
PHILADELPHIA, PA
CAMPO CARE, INC | 09/19/2002
MIAMI, FL
CANTA, LENARD | 09/19/2002
N HOLLYWOOD, CA
CHUDRY, RAZA | 09/19/2002
LEWISBURG, PA
DE ARMAS, JUAN | 09/19/2002
COLEMAN, FL
DR WALTZ DENTURE SERVIC, PPLC | 09/19/2002
BEAVERTON, MI
DRABKIN, MARINA | 09/19/2002
W HOLLYWOOD, CA
EHMEN, ROGER | 09/19/2002
OXFORD, WI
EKBATANI, SHAHRIAR | 09/19/2002
ORLANDO, FL
ELLIOTT, CHRISTIAN B | 09/19/2002
BUTNER, NC
ELLIS, CATHY C | 09/19/2002
HAZLEHURST, MS
EPSTEIN, EDWARD M | 09/19/2002
N WOODMERE, NY
ESPIN, DIEGO RAFAEL | 09/19/2002
MIAMI, FL
ESTACO, EDGAR DAMAS | 09/19/2002
MIAMI, FL
FARHADI, TOURADJ | 09/19/2002
LONG BEACH, CA
FINCH, EDWIN C | 09/19/2002
PAXINOS, PA
FORD, FELICIA L | 09/19/2002
MAGNOLIA, AR
FOSS, LEONARD FRED | 09/19/2002
BETHEL PARK, PA
FRIEDMAN, LAWRENCE | 09/19/2002
EGLIN AFB, FL
GIBSON, SHEENA TASHI | 09/19/2002
TUCSON, AZ
GILLESPIE, TAMMY JO | 09/19/2002
DANBURY, CT
GOMEZ, RAUL | 03/15/2001
MIAMI, FL
GOMEZ, MERCEDES | 03/15/2001
COLEMAN, FL
GOMEZ, BARBARA | 03/15/2001
MIAMI, FL
GONZALEZ, RAQUEL | 09/19/2002
MIAMI, FL
HARDY, YASMA | 09/19/2002
MIAMI, FL
HARRIS, WILLIAM R | 09/19/2002
HAMPDEN, ME
HASTINGS, JOHN | 09/19/2002
DORADO, PR
HEAVY RUNNER, ALICE MARIE | 09/19/2002
GREAT FALLS, MT
HIGGINS, LORNA M | 09/19/2002
HOLDEN, ME
HIRSCH, NORMAN I | 06/19/2002
ANDERSON TOWNSHIP, OH
HISCHER, KATHY JOANN | 09/19/2002
HARRIS, MN
HO, JASON | 09/19/2002
RESEDA, CA
HOLMES, DANETTE E | 09/19/2002
QUEENS VILLAGE, NY
HUNTER, BRIAN J | 09/19/2002
POLAND, OH
INDEPENDENT HOMECARE, INC | 09/19/2002
STANDISH, ME
IRIZARRY-HERRERA, MILDRED | 09/19/2002
GUAYNABO, PR
JACOBSON, CLIFFORD R | 09/19/2002
GENESEO, NY
JOHNSON, BRADLEY | 09/19/2002
HOMESTEAD, FL
JUISTON, PEGGY A | 09/19/2002
NEWARK, NJ
KELLER, MARK B | 09/19/2002
FORREST CITY, AR
LAANO, ARCHIE | 05/21/2001
GARDEN CITY, NY
LAFAYETTE, MELINDA | 09/19/2002
CHICAGO, IL
LAU, LUISA | 03/15/2001
COLEMAN, FL
LEE, ROBERT DAVID | 09/19/2002
E ELMHURST, NY
LEMENTSYAN, HASMIK | 09/19/2002
VAN NUYS, CA
LIMA, RAUL | 09/19/2002
FORREST CITY, AR
LOGAN, ASHLEY LYNN | 09/19/2002
BAY CITY, MI
MABALAY, DANIEL NONOG | 09/19/2002
LA CRESCENTA, CA
MADEN, YORKE C | 09/19/2002
MIAMI BEACH, FL
MCELENY, DENNIS | 12/14/2001
N SEMINOLE, FL
MCGOWEN, BRIDGET A | 09/19/2002
PHILADELPHIA, PA
MCINTOSH, DELORES HARRIS | 09/19/2002
SACRAMENTO, CA
MEDERO, HEATHER A | 09/19/2002
HIALEAH, FL
MEJIA, EDNA LISETTE | 09/19/2002
MIAMI, FL
MILLER, SHANNAN | 09/19/2002
WATERTOWN, WI
MOHAMED, YAGOUB M | 09/19/2002
WINTON, NC
MOLINA, GERARDO ANTONIO GARCIA | 09/19/2002
HORMIGUEROS, PR
MONTOYA, RAYMOND | 09/19/2002
GREAT FALLS, MT
MOORE, SONIA D | 09/19/2002
MAGNOLIA, AR
MORALES, ARLENE | 09/19/2002
NEWARK, NJ
MORIN-SMITH, PETER | 09/19/2002
WHITE DEER, PA
NADEAU, DONALD M | 09/19/2002
MONTGOMERY, PA
NEASLEY, ANITA SHANTA | 09/19/2002
LITTLE ROCK, AR
NGUYEN, THE T | 09/19/2002
LARGO, FL
OTERO, NANCY | 09/19/2002
MIAMI, FL
PARAMORE, SOPHONA | 09/19/2002
MIAMI, FL
PEREZ, CARMEN D | 09/19/2002
LANTANA, FL
PEREZ, DAYCY | 09/19/2002
MIAMI, FL
PERRY, MONICA FAYE | 09/19/2002
DETROIT, MI
PIERCE, NICOLE G | 09/19/2002
OAK CREEK, WI
RIVERA, OMAR FRANCISCO | 09/19/2002
MIAMI, FL
RIVERA, ALICIA | 09/19/2002
MIAMI, FL
ROBLETO, ORLANDO | 09/19/2002
MIAMI, FL
RODGERS, LINDA M | 09/19/2002
DETROIT, MI
SANTANA, ELDA Y | 09/19/2002
MIAMI, FL
SENG, MEALEDEY | 09/19/2002
LAKEWOOD, CA
STARKS, SHANA L | 09/19/2002
MILWAUKEE, WI
STUCKEY, INITHA VALARIE | 09/19/2002
FORT COLLINS, CO
TAIBI, LISA J | 09/19/2002
DANBURY, CT
TAYLOR, CLAUDIA | 09/19/2002
MORENCI, AZ
THORNE, CASSANDRA | 09/19/2002
LITHONIA, GA
TREMMEL, ROBERT | 09/19/2002
WESTBURY, NY
TRIMMIER, EDWARD P | 09/19/2002
PAWLEYS ISLAND, SC
TUSHAJ-DURAN, LINDA | 09/19/2002
RONKONKOMA, NY
WILLIAMS, RUTH ERMA | 09/19/2002
TIGARD, OR
WOLF, WALTER | 09/19/2002
BROOKLYN, NY
YAGOUB, MOHAMMED A | 09/19/2002
WINTON, NC
YERMIAN, DAVID ARDESHIRE | 09/19/2002
BEVERLY HILLS, CA
FELONY CONVICTION FOR HEALTH CARE FRAUD
ARITA, ETHEL ANN | 09/19/2002
PRESCOTT, WI
ARNOLD, WILLIAM J JR | 09/19/2002
DEARBORN, MI
BARNETT, CHARLES F | 09/19/2002
POTTSVILLE, PA
BEHMANSHAH, YASMIN | 09/19/2002
DANBURY, CT
BENTON, REGIS A SR | 09/19/2002
GRAND BLANC, MI
COHEN, ROBERT G | 09/19/2002
MATAWAN, NJ
CURCIO, VINCENT | 09/19/2002
SMITHTOWN, NY
CUSTER, CLINTON CHARLES | 09/19/2002
WRAY, CO
FARIS, MATTHEW | 09/19/2002
FLUSHING, MI
GRAPPIN, BRIAN S | 09/19/2002
FLUSHING, MI
KAPLAN, MICHAEL | 09/19/2002
MANALAPAN, NJ
LABRUNA, VINCENT A | 09/19/2002
AYER, MA
LAFONTAINE, SONIA | 09/19/2002
BROOKLYN, NY
POOLE, PAMELA B | 09/19/2002
MARIANNA, FL
PUCCI, JOSEPH P | 09/19/2002
MONMOUTH BEACH, NJ
RISH, BENITO | 09/19/2002
SCARSDALE, NY
ROGINA, KAREN ALTHEA | 09/19/2002
DUBLIN, CA
SANDERS, KATHY JO | 09/19/2002
BROOKS, KY
SHERIF, GRIGORY | 09/19/2002
SAN DIEGO, CA
SHULGA, VLADISLAV | 09/19/2002
SHERMAN OAKS, CA
SILVINO, DINNALYNN | 09/19/2002
SAIPAN, MP,
STANTON, DORIS R | 09/19/2002
EPPING, NH
WHITMORE, SHARON T | 09/19/2002
NEWARK, NJ
FELONY CONTROL SUBSTANCE CONVICTION
APPELGATE, FRANK J | 09/19/2002
SUFFERN, NY
BAUCOM, LUCRETIA KAY | 09/19/2002
SHENANDOAH, IA
BHATTACHARJEE, DULAL | 09/19/2002
STROUDSBURG, PA
BRETT, REBECCA JONES | 09/19/2002
SURFSIDE BEACH, SC
BRYANT, JACQUELINE | 09/19/2002
CHARLOTTSVILLE, VA
CHRISTIAN, TRINI RENIA | 09/19/2002
DENVER, CO
COLE, DANIELLE RUTH | 09/19/2002
ALEXANDRIA, VA
CSINCSAK, LARA L | 09/19/2002
LORAIN, OH
DOSHI, ANISH B | 09/19/2002
SHELBY TWNSHP, MI
FISHER, JEFFREY L | 09/19/2002
LAKEWOOD, OH
HALL, SUSAN ELAINE | 09/23/2002
INDIANAPOLIS, IN
JACKSON, DIANE | 09/19/2002
KENNER, LA
JACKSON, SCOTT R | 09/19/2002
LEWISBURG, PA
LAMBERT, DENNY RAY | 09/19/2002
LEBANON, VA
LILLY, JOHN F II | 09/19/2002
CHILLICOTHE, OH
MELDER, KEVIN | 09/19/2002
SACRAMENTO, CA
MORRIS, KRISTA ANNORE STACEY | 09/19/2002
HAZARD, KY
NEUMANN, SHERYL M | 09/19/2002
BALLWIN, MO
ROJAS VILLEGAS, CESAR H | 09/19/2002
HIGHLAND HGTS, OH
SNOOK, RAE GRENINGER | 09/19/2002
WILLIAMSPORT, PA
SOFFA, JEFFREY H | 09/19/2002
FARMINGTON HILLS, MI
STEPHENS, YOLANDA SHANTAYE | 09/19/2002
DECATUR, GA
WOOD, DIRK G | 09/19/2002
SPRINGFIELD, OH
PATIENT ABUSE/NEGLECT CONVICTIONS
ALEXANDER, VALESCIA MONIQUE | 09/19/2002
JACKSON, MS
ASHOKAN, ANNAMALAI | 09/19/2002
MONTEREY, CA
BACHAROWSKI, PAUL | 09/19/2002
MASSILLON, OH
BENNETT-WILLIAMSON, KATHLEEN | 09/19/2002
TRENTON, NJ
BERENS, DALLAS W | 09/19/2002
HURON, SD
BETZ, BONNIE | 09/19/2002
AFTON, OK
BISKIND, JOHN ISRAEL | 09/19/2002
BUCKEYE, AZ
BLACK TUCKER, ESSIE | 09/19/2002
DUMAS, AR
BOULWARE, CYNTHIA LYNN | 09/19/2002
ARDMORE, OK
BRICE, GLENN R | 09/19/2002
NORTHFIELD, VT
BROWN, HOWARD A | 09/19/2002
W WARWICK, RI
BUZEK, DANIELLE S | 09/19/2002
CANAL FULTON, OH
CALDERON, MANUEL ARTURO | 09/19/2002
COLORADO SPRNGS, CO
CASEY, KATINA ALICE | 09/19/2002
W JORDAN, UT
CONRADY, CHRISTINA L | 09/19/2002
MASSILLON, OH
DAVIS, GWENDOLYN MARIE | 09/19/2002
LAWTON, OK
FAY, NICOLE | 09/23/2002
KENTON, OH
GAINEY, BARBARA | 09/19/2002
GREENVILLE, SC
GARCIA, MARIO JOSE | 09/19/2002
SAN ANTONIO, TX
GARY, JERALDINE WILLIAMS | 09/19/2002
CLINTON, SC
IRBY, VIRGINIA | 09/19/2002
PONTOTOC, MS
JOHNSON-WOODS, LINDA | 09/19/2002
DETROIT, MI
LARKIN, SHIRLEY QUINN | 09/19/2002
GREENVILLE, MS
LEMIRE, PATSY A | 09/19/2002
FRANKLIN, NH
MCMILLAN, GREGORY | 09/19/2002
RIVERSIDE, CA
NEILL, RICHARD BLAND | 09/19/2002
PANAMA, OK
OGUNDELE, GBENGO BENSON | 09/19/2002
LAUREL, MD
PEGUES, TIFFANY L | 09/19/2002
OXFORD, MS
PERKINS, MARGARETE R | 09/19/2002
BASTROP, TX
PESCE, CHARLENE L | 09/19/2002
STEUBENVILLE, OH
PESINA, DAVID | 09/19/2002
GLENNVILLE, GA
POWELL, NICHEIA | 09/19/2002
BALTIMORE, MD
REESE, SANDRA D | 09/19/2002
DELAND, FL
SANTIFER, GLENN E | 09/19/2002
LOUANN, AR
SPENCER, FREDERICK | 09/19/2002
PACIFIC, MO
STONE, LINDA K | 09/19/2002
ENID, OK
STUART, CAROL | 09/19/2002
SCOTTSDALE, AZ
TERRY, TREVEKIA D | 09/19/2002
SOMERVILLE, TN
TYLER, DOLLIE M | 09/19/2002
VINITA, OK
CONVICTION FOR HEALTH CARE FRAUD
BORTZ, SANDRA E | 09/19/2002
KENNEBUNK, ME
BROWN, MARGARET | 09/19/2002
BATON ROUGE, LA
MEALY, HEATHER LEAK | 09/19/2002
GUM SPRINGS, VA
CONTROLLED SUBSTANCE CONVICTIONS
FISHBAIN, DAVID | 09/19/2002
NEW HYDE PARK, NY
FOGARTY, MAUREEN ANN | 09/19/2002
VEVAY, IN
LICENSE REVOCATION/SUSPENSION/SURRENDERED
ABBOTT, NANCY E | 09/19/2002
W NEWTON, MA
BARTON, SUSAN KAY | 09/19/2002
CHANDLER, AZ
BELDEN, ALLAN D | 09/19/2002
NEW LONDON, WI
BOLIN, CHRISTY L | 09/19/2002
NEW HAVEN, IL
BORNHOLDT, HAE SUK | 09/19/2002
MCAFEE, NJ
BOWAN-CLARDY, LISA | 09/19/2002
PAYSON, AZ
BRACKEMYRE, PHILIP JEFFERY | 09/19/2002
GREENVILLE, MI
BRADFORD, BRETT HAROLD | 09/19/2002
PORT CHARLOTTE, FL
BRANDENBURG, SUSAN M WESLEY | 09/19/2002
CHICAGO, IL
BRINGLEY, PATRICE R | 09/19/2002
PASADENA, MD
BROADY, CHERYL A | 09/19/2002
VILLA GROVE, IL
BROWN, ERIC M | 09/19/2002
N PROVIDENCE, RI
BROWN, LORI EVERHART | 09/19/2002
ALLENTOWN, PA
BROWN, SANDRA M | 09/19/2002
MILTON, MA
BRUNZELL, JAMIE LANE | 09/19/2002
COLORADO SPRNGS, CO
BUNIEWICZ, VALERIE M | 09/19/2002
MILLBURN, NJ
BURROW, NORMA MARIE SALAMONE | 09/19/2002
BIRMINGHAM, AL
CARR, MICHAEL P | 09/19/2002
BOSTON, MA
CAZALAS, MICHAEL ANTHONY | 09/19/2002
CORPUS CHRISTI, TX
CONE, ROBERT ROY | 09/19/2002
TIJUANA, CA
CRISSINGER, THERESA D | 09/19/2002
LOCK HAVEN, PA
CUNNINGHAM, MICHAEL DOUGLAS | 09/19/2002
GLEN SPEY, NY
DANIELS, SUSAN M | 09/19/2002
WHITE RIVER JUNCTION, VT
DE LA BARRE, WANDA L | 09/19/2002
AMHERST, MA
DELROSARIO, PAMELA G | 09/19/2002
ADDISON, IL
DEMONTERICE, ANU | 09/19/2002
COTATI, CA
DESANTIS, NANCY J | 09/19/2002
GLENDALE, NY
DONLIN, MICHAEL THOMAS JR | 09/19/2002
PROLE, IA
DOWSETT, KATHRYN HOHMAN | 09/19/2002
DANVILLE, PA
DROUIN, MICHELLE MARIE | 09/19/2002
SCHENECTADY, NY
DUFFY, JAMES L | 09/19/2002
SOMERS, NY
EDWARDS, JENNY L | 09/19/2002
TEMPE, AZ
EIDSON, WILLIAM ERIC | 09/19/2002
BIRMINGHAM, AL
EISENBAND, NANCY W | 09/19/2002
BALTIMORE, MD
EISNAUGLE, EDMUND BARRY | 09/19/2002
NILES, OH
EPPEL, DIETER H | 09/19/2002
AUBURN, NY
FERNANDEZ, ROGELIO OSCAR | 09/19/2002
FRESH MEADOWS, NY
FILLINGIM, JACQUELINE | 09/19/2002
PLEASANTON, TX
FINE, JAMES LEE | 09/19/2002
WALTHMAN, MA
GABLE, TODD E | 09/19/2002
WARWICK, RI
GARLIT, NANCY LYNN | 09/19/2002
NAPPANEE, IN
GEAN, JAMES TIMOTHY | 09/19/2002
MADISON HGTS, MI
GENSHEIMER, MAUREEN E | 09/19/2002
WALL, NJ
GONSE, RICHARD WAYNE | 09/19/2002
MINNEAPOLIS, MN
GRAUERHOLZ, JOHN E | 09/19/2002
LEESBURG, VA
GREEN, LAKEISHA DANYELLE | 09/19/2002
CHICAGO, IL
GRISELL, DEANNA MARGARET | 09/19/2002
ST PAUL, MN
GRUZESKI, LINDA S | 09/19/2002
ROBERTSVILLE, MO
HALVORSEN-GUARDINO, ANDREA LEE | 09/19/2002
SAN FRANCISCO, CA
HAMPTON, MONA LEE | 09/19/2002
HUGHES SPRINGS, TX
HANCOCK, BONNIE | 09/19/2002
FRESNO, CA
HARRIS, DAWN MARIE | 09/19/2002
THOUSAND OAKS, CA
HATFIELD, GAIL | 09/19/2002
PHILADELPHIA, PA
HINOJOSA, RICHARD | 09/19/2002
AUSTIN, TX
HOLT, TRACIE LEE | 09/19/2002
PHOENIX, AZ
HOPKINS, ELIZABETH BENNETT | 09/19/2002
ENID, OK
HORSEHERDER, EMILY J | 09/19/2002
PHOENIX, AZ
HORTON, JOEY D | 09/19/2002
CRYSTAL SPRINGS, MS
HUNTEMAN, DENISE M | 09/19/2002
GREELEY, CO
HUTCHINSON, SHEILA | 09/19/2002
GAINESVILLE, GA
JACQUES, CAROLE A | 09/19/2002
GILFORD, NH
JAFFE, CAROLYN B | 09/19/2002
GREEN LANE, PA
JENKS, JANET W | 09/19/2002
CONOVER, NC
JENSEN, LISA GAYLE | 09/19/2002
HUFFMAN, TX
JENSEN, INGE LAURA | 09/19/2002
SHERMAN, TX
JONES, LISA M | 09/19/2002
SANTA ROSA, CA
KELLAR, SABRINA MARIE | 09/19/2002
SAINT HELENA, CA
KELLY, JAN VINCENT | 09/19/2002
NORMAN, OK
KENNEDY, SHARON L | 09/19/2002
MECHANICSVILLE, VA
KEYSER, GARY R | 09/19/2002
LAVEEN, AZ
KLEPPER, JEFFREY BEN | 09/19/2002
CHILDRESS, TX
KNAPP, ERIC | 09/19/2002
YUCAIPA, CA
KONTRA, SHARON ANN | 09/19/2002
NEWBURGH, IN
KREUGER, LORI KRISTEN | 09/19/2002
PITTSBURGH, PA
LACKO-HELM, MICHELLE A | 09/19/2002
SAN JUAN CAPISTRANO, CA
LANOUE, MARTHA L | 09/19/2002
NAUGATUCK, CT
LARGE, BEVERLY THOMPSON | 09/19/2002
RANDLEMAN, NC
LARRIVEE, POYANI T | 09/19/2002
SOMERSET, MA
LEE, KELLY JEAN | 09/19/2002
HASKELL, OK
LEH, TAMI | 09/19/2002
POTTSTOWN, PA
LEMIRE, KRISTA E | 09/19/2002
CUMBERLAND, RI
LINGLE, JERRY CLIFTON | 09/19/2002
FT LAUDERDALE, FL
LITTLE, BELINDA BRANDT | 09/19/2002
LANSING, KS
LOPEZ, CHARLENE R | 09/19/2002
COTTONWOOD, AZ
LYLE, PHILLIP W | 09/19/2002
LOUISVILLE, KY
MADRUGA, RODNEY MARK | 09/19/2002
ATASCADERO, CA
MALONE, MARY LOU | 09/19/2002
WILLITS, CA
MARKS, CLIFFORD S | 09/19/2002
SAN DIEGO, CA
MARTIER, DEBORAH GRAHAM | 09/19/2002
FAIRLESS HILLS, PA
MARTINEZ, SYLVIA ANN | 09/19/2002
KINGSVILLE, TX
MATTER, SCARLET LENARE | 09/19/2002
SAN ANTONIO, TX
MAYBIE, ROBERT G JR | 09/19/2002
PALM HARBOR, FL
MCLAIN, PATRICK GENE | 09/19/2002
MERIDIAN, MS
MENDOZA, FREDERICK | 09/19/2002
WEWAHITCHKA, FL
MILLER, MAUREEN E | 09/19/2002
BELLINGHAM, MA
MILLS, JOE D | 09/19/2002
NEWPORT, NC
MOE, GAIL CHRISTINE | 09/19/2002
LOCKEFORD, CA
MOJICA, JO ANN | 09/19/2002
LAMESA, TX
MOORE, JANIS C | 09/19/2002
LEXINGTON, SC
MORGAN, BRIAN DANIEL | 09/19/2002
DANSVILLE, NY
MORRIS, ROBERT LEE | 09/19/2002
OKMULGEE, OK
MULHERN, SCOTT P | 09/19/2002
WORCESTER, MA
MULLER, ALFRED | 09/19/2002
CHEVY CHASE, MD
NICHOLLS, CRAIG DUNCAN | 09/19/2002
KAYSVILLE, UT
NICHOLS, POPPY LEE | 09/19/2002
NEWPORT BEACH, CA
NOBLE, MICHAEL BRENT | 09/19/2002
N RICHLAND HILLS, TX
NOVAK, MARK H | 09/19/2002
SYRACUSE, NY
OPALINSKI, LINDA A | 09/19/2002
GENEVA, IL
OTTE, ELIZABETH FRANDSEN | 09/19/2002
OREM, UT
PAUL, LYONEL | 09/19/2002
UNIONDALE, NY
PAYE, TENNEH D | 09/19/2002
PROVIDENCE, RI
PAYNE, SHERIE L | 09/19/2002
JOHNSON CITY, TN
PECK, ROBBIN L | 09/19/2002
GOLDEN VALLEY, AZ
PHARES, ALYSSA A | 09/19/2002
DAYTON, NJ
PHILLIPS, JODI ANN | 09/19/2002
NEW ALEXANDRIA, PA
PIERCE, JOHNNY DOUGLAS | 09/19/2002
MEMPHIS, TN
PLASKETT, MARIBETH | 09/19/2002
MARTINEZ, CA
POOLE, JOSEPH PHILLIP | 09/19/2002
SEATTLE, WA
POOR, KAREN | 09/19/2002
CLEMMONS, NC
PORTER, KIMBERLY | 09/19/2002
MESA, AZ
POSEY, RICHARD | 09/19/2002
MURPHY, TX
PRINGLE, JANICE LEE | 09/19/2002
SONORA, CA
RADAKER, AMBER | 09/19/2002
GLASSPORT, PA
RANDALL, KATHLEEN M | 09/19/2002
DES MOINES, IA
RAY, JAMES NORRIS | 09/19/2002
FLINT, MI
REED, JULIE ANNE DUDLEY | 09/19/2002
FLAT ROCK, IN
RICE, BARBARA JOYCE | 09/19/2002
MAGNOLIA, TX
RICHARDS, SHERRY L SCHLOSS | 09/19/2002
LEXINGTON, KY
RINGEL, DAVID R | 09/19/2002
LOUISVILLE, KY
ROEDER, ROBERT | 09/19/2002
E AMHERST, NY
SARAYBA, ALBERTO | 09/19/2002
COLONIAL HGTS, VA
SCHLESSELMAN, HEIDI JO | 09/19/2002
DEEP RIVER, IA
SCHOULTZ, JENNIFER SUSANNE | 09/19/2002
LITTLE ROCK, AR
SEARCEY, VICKY C | 09/19/2002
TOLEDO, OH
SHAHRESTANI, SHAHRIAR | 09/19/2002
ANAHEIM, CA
SHEEHY, DIANNE M | 09/19/2002
LAWRENCE, MA
SILVERLIGHT, SARAH LYNN | 09/19/2002
FT LAUDERDALE, FL
SKVASIK, BARBARA SUE DAVIS | 09/19/2002
DOTHAN, AL
SLATER, KATHRYN ANN | 09/19/2002
SAN MARCOS, CA
SMITH, TONEY O | 09/19/2002
TUCSON, AZ
SMITH, BENNETT J | 09/19/2002
HUDSON, MA
SMITH, MAUREEN | 09/19/2002
KEENE, NH
SORRELS, THOMAS | 09/19/2002
MEMPHIS, TN
STOKES, PAMELA | 09/19/2002
EVANSVILLE, IN
STRATTON, JOHN P | 09/19/2002
FITCHBURG, MA
SULLIVAN, MELONIE DAWN | 09/19/2002
PARAGOULD, AR
SWINDELL, PAULA J | 09/19/2002
CENTRALIA, IL
TARASEVICH, LISA | 09/19/2002
NATIONAL PARK, NJ
THEDE, NORMAN D | 09/19/2002
CLARKDALE, AZ
THIBODEAU, DIANA M | 09/19/2002
SIDNEY, ME
THOMAS, DAVID PAUL | 09/19/2002
ST DAVID, AZ
THOMAS, CYNTHIA CHARLENE | 09/19/2002
INDIANAPOLIS, IN
TRAVERS, REBECCA ANN | 09/19/2002
QUINLAN, TX
TUASON, RHONDA L. | 09/19/2002
BALTIMORE, MD
VILLAMIZAR, ALFONSO | 09/19/2002
INGLEWOOD, CA
WALL, TANYA JEAN | 09/19/2002
MONTICELLO, IL
WATWOOD, LINDA JEAN | 09/19/2002
REMLAP, AL
WELDEN, DARREL R | 09/19/2002
FLORENCE, SC
WESTRUM, CYNTHIA ANN | 09/19/2002
HUNT, TX
WHITT, PHOEBE RENEE | 09/19/2002
OXFORD, AL
WIEBERDINK, KIP EDWARD | 09/19/2002
GARDEN GROVE, CA
WILLIAMS, BARBARA ANN DEESE | 09/19/2002
MOBILE, AL
WILLIAMS, STACY ANN | 09/19/2002
LAKE ELSINORE, CA
WORLEY, DOROTHY | 09/19/2002
PHOENIX, AZ
YANDO, GAIL ROSE | 09/19/2002
POINT RICHMOND, CA
YARGO, BRIDGETTE | 09/19/2002
PASS CHRISTIAN, MS
YAZDGERDI, DARYOUSH | 09/19/2002
VACAVILLE, CA
FEDERAL/STATE EXCLUSION/SUSPENSION
BLAS, MANUEL PIEDAD | 09/19/2002
OAK BROOK, IL
JOSEPH, ALEYAMMA P | 09/19/2002
PRINCETON JUNCTION, NJ
SIMONDS, SHARON Q | 09/19/2002
CUMBERLAND CTR, ME
WEST WINDSOR TENDER CARE | 09/19/2002
PRINCETON JUNCTION, NJ
FRAUD/KICKBACKS
FEDERGREEN, WARREN ROSS | 05/17/2002
JENSEN BEACH, FL
KIMMELL, JAMES E | 05/13/2002
FISHERS, IN
MAZZELLA, BARBARA | 04/18/2000
COLEMAN, FL
PRIORITY OXYGEN & MEDICAL EQPT | 12/14/2001
ST PETERSBURG, FL
OWNED/CONTROLLED BY CONVICTED ENTITIES
BARBARA A MAZZELLA, M D, P A | 09/19/2002
CORAL SPRINGS, FL
BILLING G SYSTEMS, INC | 09/19/2002
MIAMI, FL
CINDY DRUGS, INC | 09/19/2002
HICKSVILLE, NY
CITY MEDICAL SUPPLY, INC | 09/19/2002
N HOLLYWOOD, CA
CLOVER PHARMACY, INC | 09/19/2002
PALM HARBOR, FL
CSE, INC | 09/19/2002
ORLANDO, FL
ELITE MEDICAL DISTRIBUTORS INC | 09/19/2002
PALM HARBOR, FL
FL COMMUNITY CARE CTRS, INC | 09/19/2002
ORLANDO, FL
HEALTHCON INTERNATIONAL, INC | 09/19/2002
MIAMI, FL
INTEGRATED MEDICAL NETWORKS | 09/19/2002
ORLANDO, FL
L B M & ASSOCIATES, CORP | 09/19/2002
MIAMI, FL
MERCEDES GOMEZ, INC | 09/19/2002
COLEMAN, FL
NEW AGE UNLIMITED SVCS, INC | 09/19/2002
MIAMI, FL
NORTH & SOUTH SUPPLY SERVICES | 09/19/2002
MIAMI, FL
PALMETTO MEDICAL SUPPLY, CORP | 09/19/2002
MIAMI, FL
PSL COMMUNITY CARE CTR, INC | 09/19/2002
ORLANDO, FL
SAFETY DRUGS INC | 09/19/2002
BROOKLYN, NY
ST PETER'S MEDICAL SUPPLY, INC | 09/19/2002
PHILADELPHIA, PA
1ST REHABILITATION OF PORT ST | 09/19/2002
ORLANDO, FL
DEFAULT ON HEAL LOAN
ALSTON-DAVIS, DIEDRA A | 08/20/2002
PINE FORGE, PA
BOULIS, MARKELL D | 09/19/2002
PRESTO, PA
VELARDE, DIEGO F | 08/20/2002
BENSENVILLE, IL

Dated: September 3, 2002.
Calvin Anderson, Jr.,
Director, Health Care Administrative Sanctions, Office of Inspector General.

[FR Doc. 02-23033 Filed 9-10-02; 8:45 am]

BILLING CODE 4150-04-P